DEPARTMENT OF HOUSING AND URBAN DEVELOPMENT

[Docket No. FR-5909-N-62]

30-Day Notice of Proposed Information Collection: Ginnie Mae Multiclass Securities Program Documents Forms and Electronic Data Submissions

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 29, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Anna P. Guido, Reports Management Officer, QDAM, Department of Housing and Urban Development, 451 7th Street SW., Washington, DC 20410; email Anna P. Guido at Anna.P.Guido@hud.gov or telephone 202-402-5533. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on June 23, 2016 at 81 FR 40897.

A. Overview of Information Collection

Title of Information Collection: Ginnie Mae Multiclass Securities Program Documents, Forms and Electronic Data Submissions.

OMB Control Number: 2503-0030.

Form Number: None.

Type of Request: Extension.

Description of the need for information and proposed use: This information collection is required in connection with the operation of the Ginnie Mae Multiclass Securities program. Ginnie Mae's authority to guarantee multiclass instruments is contained in 306(g)(1) of the National Housing Act (“NHA”) (12 U.S.C. 1721(g)(1)), which authorizes Ginnie Mae to guarantee “securities . . . based on or backed by a trust or pool composed of mortgages. Multiclass securities are backed by Ginnie Mae securities, which are backed by government insured or guaranteed mortgages. Ginnie Mae's authority to operate a Multiclass Securities program is recognized in Section 3004 of the Omnibus Budget Reconciliation Act of 1993 (“OBRA”), which amended 306(g)(3) of the NHA (12 U.S.C. 1271(g)(3)) to provide Ginnie Mae with greater flexibility for the Multiclass Securities program regarding fee structure, contracting, industry consultation, and program implementation. Congress annually sets Ginnie Mae's commitment authority to guarantee mortgage-backed (“MBS”) pursuant to 306(G)(2) of the NHA (12 U.S.C. 1271(g)(2)). Since the multiclass are backed by Ginnie Mae Single Class MBS, Ginnie Mae has already guaranteed the collateral for the multiclass instruments. The Ginnie Mae Multiclass Securities Program consists of Ginnie Mae Real Estate Mortgage Investment Conduit (“REMIC”) securities, Stripped Mortgage-Backed Securities (“SMBS”), and Platinum securities. The Multiclass Securities program provides an important adjunct to Ginnie Mae's secondary mortgage market activities, allowing the private sector to combine and restructure cash flows from Ginnie Mae Single Class MBS into securities that meet unique investor requirements in connection with yield, maturity, and call-option protection. The intent of the Multiclass Securities program is to increase liquidity in the secondary mortgage market and to attract new sources of capital for federally insured or guaranteed loans. Under this program, Ginnie Mae guarantees, with the full faith and credit of the United States, the timely payment of principal and interest on Ginnie Mae REMIC, SMBS and Platinum securities.

Type of information collection | (Prepared by) | Number of potential sponsors | Estimated annual frequency per respondant | Total annual responses | Estimated average hourly burden | Estimated annual burden hours
REMIC Securities
Pricing Letter | Sponsor | 18 | 8.00 | 144.00 | 0.50 | 72.00
Structured Term Sheet | Sponsor | 18 | 8.00 | 144.00 | 3.00 | 432.00
Trust (REMIC) Agreement | Attorney for Sponsor | 18 | 8.00 | 144.00 | 1.00 | 144.00
Trust Opinion | Attorney for Sponsor | 18 | 8.00 | 144.00 | 4.00 | 576.00
MX Trust Agreement | Attorney for Sponsor | 18 | 8.00 | 144.00 | 0.16 | 23.04
MX Trust Opinion | Attorney for Sponsor | 18 | 8.00 | 144.00 | 4.00 | 576.00
RR Certificate | Attorney for Sponsor | 18 | 8.00 | 144.00 | 0.08 | 11.52
Sponsor Agreement | Attorney for Sponsor | 18 | 8.00 | 144.00 | 0.05 | 7.20
Table of Contents | Attorney for Sponsor | 18 | 8.00 | 144.00 | 0.33 | 47.52
Issuance Statement | Attorney for Sponsor | 18 | 8.00 | 144.00 | 0.5 | 72.00
Tax Opinion | Attorney for Sponsor | 18 | 8.00 | 144.00 | 4.00 | 576.00
Transfer Affidavit | Attorney for Sponsor | 18 | 8.00 | 144.00 | 0.08 | 11.52
Supplemental Statement | Attorney for Sponsor | 18 | 0.25 | 4.50 | 1.00 | 4.50
Final Data Statements (attached to closing letter) | Attorney for Sponsor | 18 | 8.00 | 144.00 | 32.00 | 4608.00
Accountants' Closing Letter | Accountant | 18 | 8.00 | 144.00 | 8.00 | 1152.00
Accountants' OSC Letter | Accountant | 18 | 8.00 | 144.00 | 8.00 | 1152.00
Structuring Data | Accountant | 18 | 8.00 | 144.00 | 8.00 | 1152.00
Financial Statements | Accountant | 18 | 8.00 | 144.00 | 1.00 | 144.00
Principal and Interest Factor File Specifications | Trustee | 18 | 8.00 | 144.00 | 16.00 | 2304.00
Distribution Dates and Statement | Trustee | 18 | 8.00 | 144.00 | 0.42 | 60.48
Term Sheet | Sponsor | 18 | 8.00 | 144.00 | 2.00 | 288.00
New Issue File Layout | Trustee | 18 | 8.00 | 144.00 | 4.00 | 576.00
Flow of Funds | Attorney for Trustee | 18 | 8.00 | 144.00 | 0.16 | 23.04
Trustee Receipt | Trustee Attorney | 18 | 8.00, | 144.00 | 2.00 | 288.00
Subtotal |  |  |  | $3,316.50 |  | 14,300.82
Platinum Securities
Deposit Agreement | Depositor | 19 | 10.00 | 190.00 | 1.00 | 190.00
MBS Schedule | Depositor | 19 | 10.00 | 190.00 | 0.16 | 30.40
New Issue File Layout | Depositor | 19 | 10.00 | 190.00 | 4.00 | 760.00
Principal and Interest Factor File Specifications | Trustee | 19 | 10.00 | 190.00 | 16.00 | 3040.00
Subtotal |  |  |  | $760.00 |  | $4,020.40
Total Annual Responses |  |  |  | $4,076.50 |  |
Total Burden Hours |  |  |  |  |  | $18,321.22
Calculation of Burden Hours:
Sponsors × Frequency per Year = Est. Annual Frequency
Est. Annual Frequency × Est. Average Completion Time = Est. Annual Burden Hours

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority: Section 3507 of the Paperwork Reduction Act of 1995, 44 U.S.C. Chapter 35.

Dated: August 23, 2016.
Anna P. Guido,
Department of Paperwork Reduction Act Officer, Office of the Chief Information Officer.

[FR Doc. 2016-20799 Filed 8-29-16; 8:45 am]

BILLING CODE 4210-67-P